DEPARTMENT OF THE INTERIOR

National Park Service

Oil and Gas Management Plan, Draft Environmental Impact Statement Big Thicket National Preserve, Texas

AGENCY: National Park Service, Department of the Interior.

ACTION: Notice of availability of the Oil and Gas Management Plan/Draft Environmental Impact Statement for Big Thicket National Preserve.

SUMMARY: Pursuant to the National Environmental Policy Act of 1969, 42 U.S.C. 4332(C), the National Park Service announces the availability of an Oil and Gas Management Plan/Draft Environmental Impact Statement (OGMP/DEIS) for Big Thicket National Preserve, Texas.

When the Preserve was created, surface ownership within the area was acquired by the U.S. Government. Private entities or the State of Texas retained the subsurface mineral interests in these lands. Thus, the federal government does not own any of the subsurface oil and gas rights in the Preserve, yet the National Park Service is required by its laws, policies and regulations to protect the Preserve from any actions, including oil and gas operations that may adversely impact or impair Preserve resources and values.

The OGMP/DEIS analyzes three alternatives that could be implemented over the next 15-20 years. Each alternative defines a direction for long-term management of existing and anticipated oil and gas operations associated with the exercise of nonfederal oil and gas interests underlying the Preserve, and existing transpark oil and gas pipelines and activities in their associated rights-of-way, while protecting Preserve resources, visitor use and experience, and human health and safety, and preventing impairment to Preserve resources and values. This is a programmatic management plan. No ground-disturbing operations would result directly from the management decisions made in this document. Prior to approving individual projects, further environmental analysis, in accordance with NEPA, would be completed.

Alternative A, No Action, is required under the National Environmental Policy Act and establishes a baseline for comparison with the two action alternatives, B and C. No Action is based on Current Legal and Policy Requirements (CLPR) and is a continuation of current oil and gas management direction in the Preserve. Performance standards and specific resource protection goals would continue to be applied on a case-by-case basis under the No Action alternative. Geophysical exploration operations may be permitted on 80,670 acres (91 percent of the Preserve) of which 52,272 acres (59 percent of the Preserve) would have timing stipulations; and drilling and production operations may be permitted on 80,639 acres (91 percent of the Preserve). No operations would be permitted within 500 feet of waterways.

Alternative B, the agency Preferred Alternative, defines Preserve-wide resource-specific performance standards that would be applied to all existing and new oil and gas operations. In this alternative, Special Management Areas (SMAs) would be formally designated for areas where Preserve resources and values are particularly susceptible to adverse impacts from oil and gas operations, and operating stipulations specific to each SMA would be applied. Nonfederal oil and gas operations could be permitted under CLPR in all other areas of the Preserve that are not designated as SMAs. Geophysical exploration operations may be permitted on 76,620 acres (87 percent of the Preserve) of which 52,272 acres (59 percent of the Preserve) would have timing stipulations; and drilling and production operations may be permitted on up to 41,859 acres (47 percent of the Preserve). No operations would be permitted within 500 feet of waterways.

Alternative C, the Environmentally Preferred Alternative, also defines park-wide resource-specific performance standards that would be applied to all current and new oil and gas operations. Similar to Alternative B, SMAs would be designated with specific operating stipulations for oil and gas operations. Geophysical exploration may be permitted on 48,475 acres (55 percent of the Preserve) and with a timing stipulation on 52,272 acres (59 percent of the Preserve); and drilling and production operations may be permitted on 41,859 acres (47 percent of the Preserve). No operations would be permitted within 500 feet of waterways.

Impacts are analyzed on the following topics: nonfederal oil and gas development, air quality, geologic resources, water resources, floodplains, vegetation, wetlands, fish and wildlife, species of special concern, cultural resources, visitor use and experience, and adjacent land uses and resources.

DATES: The National Park Service will accept comments from the public on the Draft Environmental Impact Statement for a minimum of 60 days after publication of this notice.

ADDRESSES: The OGMP/DEIS will be available for public review and comment at the following locations:

Office of the Superintendent, Big Thicket National Preserve Headquarters, 3785 Milam Street, Beaumont, Texas 77701-4724, Telephone: 409-839-2690, ext. 223.

Office of Minerals/Oil and Gas Support, Intermountain Region, National Park Service, 1100 Old Santa Fe Trail, Santa Fe, New Mexico 87501, Telephone: 505-988-6095.

Planning and Environmental Quality, Intermountain Region, National Park Service, 12795 W. Alameda Parkway, Lakewood, Colorado 80228, Telephone: 303-969-2377.

Office of Public Affairs, Department of the Interior, 18th and C Streets NW., Washington, DC 20240, Telephone: 202-208-6843, http://www.nps.gov/bith/pphtml/documents.html.

FOR FURTHER INFORMATION CONTACT: Linda Dansby, EIS Project Manager, Office of Minerals/Oil and Gas Support, Intermountain Region, Santa Fe, New Mexico 87504-0728, telephone 505-988-6095.

SUPPLEMENTARY INFORMATION: If you wish to comment, you may submit your comments by any one of the following methods: You may mail comments to Linda Dansby, EIS Project Manager, Office of Minerals/Oil and Gas Support, Intermountain Region, Santa Fe, New Mexico 87504-0728, telephone 505-988-6095. You may also comment via the Internet to bith_eis@nps.gov. Please submit Internet comments as an ASCII file avoiding the use of special characters and any form of encryption. Please also include “Attn: Big Thicket National Preserve DEIS/O&GMP” and your name and return address in your Internet message. If you do not receive a confirmation from the system that we have received your Internet message, contact us directly at 505-988-6095. You may also go to the Planning, Environment and Public Comment website at http://parkplanning.nps.gov for further information regarding the comment due date, and to submit comments. Finally, you may hand-deliver comments to the Project Manager at 1100 Old Santa Fe Trail, Santa Fe, New Mexico. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: November 12, 2004.
John T. Crowley,
Acting Director, Intermountain Region, National Park Service.

[FR Doc. 04-27240 Filed 12-10-04; 8:45 am]

BILLING CODE 4312-CB-P